DEPARTMENT OF COMMERCE

International Trade Administration

[A-583-837]

Polyethylene Terephthalate Film, Sheet, and Strip From Taiwan: Final Results of Antidumping Duty Administrative Review and Final Determination of No Shipments; 2022-2023

AGENCY: Enforcement and Compliance, International Trade Administration, Department of Commerce.

SUMMARY: The U.S. Department of Commerce (Commerce) determines that polyethylene terephthalate film, sheet, and strip (PET film) from Taiwan was not sold in the United States at less than normal value (NV) during the period of review (POR), July 1, 2022, through June 30, 2023.

DATES: Applicable May 14, 2025.

FOR FURTHER INFORMATION CONTACT: Charles DeFilippo, AD/CVD Operations, Office VII, Enforcement and Compliance, International Trade Administration, U.S. Department of Commerce, 1401 Constitution Avenue NW, Washington, DC 20230; telephone: (202) 482-3797.

SUPPLEMENTARY INFORMATION:

Background

On August 13, 2024, Commerce published in the Federal Register the Preliminary Results of the 2022-2023 administrative review of the antidumping duty order on PET film from Taiwan.¹ We verified the sales information submitted by Nan Ya Plastics Corporation (Nan Ya) in October 2024.² On November 1, 2024, we released our verification report regarding the sales information of Nan Ya.³ We invited interested parties to submit case and rebuttal briefs; ⁴ however, no interested party submitted case or rebuttal briefs. On December 6, 2024, Commerce extended the deadline for these final results to February 7, 2025.⁵ On December 9, 2025, Commerce tolled the deadline for these final results by 90 days.⁶ Accordingly, the deadline for these final results is now due May 8, 2025. Because no interested party submitted comments, the final results of this review remain unchanged from the Preliminary Results and no Issues and Decision Memorandum accompanies this notice.

¹ See Polyethylene Terephthalate Film, Sheet, and Strip from Taiwan: Preliminary Results of Antidumping Duty Administrative Review and Preliminary Rescission of Review; 2022-2023, 89 FR 65863 (August 13, 2024) (Preliminary Results), and accompanying Preliminary Decision Memorandum (PDM).

² See Memorandum, “Verification of the Sales Response of Nan Ya Plastics Corporation. in the Antidumping Duty Administrative Review of Polyethylene Terephthalate Film, Sheet, and Strip from Taiwan,” dated November 1, 2024.

³ Id.

⁴ See Memorandum, “Briefing Schedule,” dated November 1, 2024.

⁵ See Memorandum, “Extension of Deadline for Final Results of Antidumping Duty Administrative Review,” dated December 6, 2024.

⁶ See Memorandum, “Tolling of Deadlines for Antidumping and Countervailing Duty Proceedings,” dated December 9, 2024.

Scope of the Order ⁷

⁷ See Notice of Amended Final Antidumping Duty Determination of Sales at Less Than Fair Value and Antidumping Duty Order: Polyethylene Terephthalate Film, Sheet, and Strip (PET Film) from Taiwan, 67 FR 44174 (July 1, 2002) (Order).

The merchandise subject to the Order is PET film. For a full description of the scope, see the Preliminary Decision Memorandum.

Final Determination of No Shipments

In the Preliminary Results, Commerce determined that Shinkong Materials Technology Corporation (SMTC)/Shinkong Synthetic Fibers Corporation (SSFC) (collectively, SMTC/SSFC) ⁸ had no shipments of PET film during the POR, based on U.S. Customs and Border Protection (CBP) entry data for U.S. imports of PET film from Taiwan during the POR.⁹ We received no comments from interested parties on our preliminary finding. As there is no information on the record that calls into question the findings in the Preliminary Results, we continue to find in the final results of this review that SMTC/SSFC had no shipments of subject merchandise during the POR.

⁸ In the 2011-2012 administrative review, we treated SMTC and SSFC as a single entity. See Polyethylene Terephthalate Film, Sheet, and Strip from Taiwan; Preliminary Results of Antidumping Duty Administrative Review; 2011-2012, 78 FR 48651 (August 9, 2013), and accompanying PDM, unchanged in Polyethylene Terephthalate Film, Sheet, and Strip from Taiwan: Final Results of Antidumping Duty Administrative Review; 2011-2012, 79 FR 11407 (February 28, 2014). We have treated SMTC and SSFC as a single entity in all subsequent reviews. There is no information on the record of this administrative review that would lead Commerce to reconsider that determination. Accordingly, we continue to treat SMTC and SSFC as a single entity for purposes of this administrative review.

⁹ See Memorandum, “Release of U.S. Customs Entry Data for Respondent Selection; 2022-2023,” dated October 6, 2023.

Changes Since the Preliminary Results ¹⁰

¹⁰ See Memorandum, “Analysis Memorandum for the Final Results of the Antidumping Duty Administrative Review of Polyethylene Terephthalate Film, Sheet, and Strip from Taiwan: Nan Ya Plastics Corporation (Nan Ya),” dated concurrently with this notice.

• We used the revised home market database incorporating the minor corrections accepted at verification.

• We used the revised U.S. sales database incorporating the minor corrections accepted at verification.

• We added language to include document courier fees and customs random check charges in our direct selling expenses which were originally not captured from the U.S. sales database.

Final Results of Review

In the Preliminary Results, we determined that Nan Ya did not make sales of subject merchandise at less than NV during the POR. As noted above, Commerce received no comments concerning the Preliminary Results. Therefore, for these final results, we continue to determine the final weighted-average dumping margin for the period July 1, 2022, through June 30, 2023, for Nan Ya is as follows:

Producer/exporter | Weighted- average dumping margin (percent)
Nan Ya Plastics Corporation | 0.00

Disclosure

Commerce intends to disclose the calculations performed in connection with these final results to interested parties within five days of any public announcement or, if there is no public announcement, within five days after the date of publication of this notice in the Federal Register, in accordance with 19 CFR 351.224(b).

Assessment Rates

Commerce will determine, and CBP shall assess, antidumping duties on all appropriate entries in this review, in accordance with section 751(a)(2)(C) of the Tariff Act of 1930, as amended (the Act), and 19 CFR 351.212(b)(1). Because we calculated a zero percent margin in the final results of this review for Nan Ya, in accordance with 19 CFR 351.212, we will instruct CBP to liquidate the appropriate entries without regard to antidumping duties. In addition, as Commerce continues to find that SMTC/SSFC did not have any shipments of subject merchandise during the POR, we will instruct CBP to liquidate any suspended entries of subject merchandise associated with SMTC/SSFC at the all-others rate of 2.40 percent.

Commerce intends to issue appropriate assessment instructions directly to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for Nan Ya will be zero, the rate established in the final results of this review; (2) for previously reviewed or investigated companies not covered in this review, the cash deposit rate will continue to be the company-specific rate published for the most recent period; (3) if the exporter is not a firm covered in this or any previous review or in the original less-than-fair-value (LTFV) investigation but the producer is, the cash deposit rate will be the rate established for the most recent period for the producer of the merchandise; and (4) if neither the exporter nor the producer is a firm covered in this or any previous review or the LTFV investigation, the cash deposit rate will continue to be 2.40 percent, which is the all-others rate established by Commerce in the LTFV investigation.¹¹ These cash deposit requirements, when imposed, shall remain in effect until further notice.

¹¹ See Notice of Amended Final Antidumping Duty Determination of Sales at Less Than Fair Value and Antidumping Duty Order: Polyethylene Terephthalate Film, Sheet, and Strip (PET Film) from Taiwan, 67 FR at 44175 (July 1, 2002), unchanged in Notice of Amended Final Antidumping Duty Determination of Sales at Less Than Fair Value and Antidumping Duty Order: Polyethylene Terephthalate Film, Sheet, and Strip (PET Film) from Taiwain {sic}, 67 FR at 46566 (July 15, 2002).

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice also serves as a reminder to parties subject to an APO of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and the terms of an APO is a violation which subject to sanction.

Notification to Interested Parties

These results are being issued and published in accordance with sections 751(a)(1) and 777(i)(1) of the Act, and 19 CFR 351.213(h) and 351.221(b)(5).

Dated: May 8, 2025.
Christopher Abbott,
Deputy Assistant Secretary for Policy and Negotiations, performing the non-exclusive functions and duties of the Assistant Secretary for Enforcement and Compliance.

[FR Doc. 2025-08523 Filed 5-13-25; 8:45 am]

BILLING CODE 3510-DS-P